DEPARTMENT OF TRANSPORTATION

Federal Aviation Administration

14 CFR Part 39

[Docket No. FAA-2006-23786; Directorate Identifier 2006-CE-11-AD]

RIN 2120-AA64

Airworthiness Directives; CTRM Aviation Sdn. Bhd. (Formerly Eagle Aircraft (Malaysia) Sdn. Bhd.) Model Eagle 150B Airplanes

AGENCY: Federal Aviation Administration (FAA), Department of Transportation (DOT).

ACTION: Notice of proposed rulemaking (NPRM).

SUMMARY: The FAA proposes to supersede Airworthiness Directive (AD) 2004-11-04, which applies to all CTRM Aviation Sdn. Bhd. (Formerly Eagle Aircraft (Malaysia) Sdn. Bhd.) Model Eagle 150B airplanes. AD 2004-11-04 currently requires you to inspect certain canard inboard flap hinge support brackets (initially before further flight and repetitively before the first flight of each day) and perform any necessary follow-up action. This proposed AD results from mandatory continuing airworthiness information (MCAI) issued by the airworthiness authority for Malaysia to require the installation of improved design inboard flap hinge brackets as terminating action for the repetitive inspections. Consequently, this proposed AD would initially retain the requirement that you inspect certain canard inboard flap hinge support brackets (initially before further flight and repetitively before the first flight of each day) and then require that you replace the parts with new design inboard flap hinge brackets as terminating action for the repetitive inspections or if cracks are found. We are issuing this proposed AD to detect and correct cracks in the canard inboard flap hinge support brackets, which could result in loss of retention of controls and consequently, loss of airplane control.

DATES: We must receive comments on this proposed AD by August 10, 2006.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

For service information identified in this proposed AD, contact CTRM Aviation Sdn. Bhd. (formerly known as Eagle Aircraft (Malaysia) Sdn. Bhd.), Locked Bag 1028, Pejabat Pos Besar Melaka, 75150 Melaka, Malaysia; telephone: 06 317 1007; facsimile: 06 317 7023.

FOR FURTHER INFORMATION CONTACT: Karl Schletzbaum, Aerospace Engineer, ACE-112, Small Airplane Directorate, 901 Locust, Room 301, Kansas City, Missouri 64106; telephone: 816-329-4146; facsimile: 816-329-4090.

SUPPLEMENTARY INFORMATION:

Comments Invited

We invite you to send any written relevant data, views, or arguments regarding this proposed AD. Send your comments to an address listed under the ADDRESSES section. Include the docket number, “FAA-2006-23786; Directorate Identifier 2006-CE-11-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

The Department of Civil Aviation (DCA) for Malaysia issued AD No. CAM AD 001-01-2004, dated January 19, 2004, against Eagle Aircraft (now CTRM Aviation Sdn. Bhd.) Models X-TS, X-TS 150, and 150B airplanes. CAM AD 001-01-2004 required the following for these airplanes that are registered for operation in Malaysia:

• A visual inspection of the gusset weld area of the canard inboard flap hinge support brackets for cracked, lifted, or missing paint in the area of the weld or suspected cracks;

• A more detailed inspection for cracks (using fluorescent penetrant inspection (FPI) methods) if any of the above conditions exist; and

• Replacement of any canard inboard flap hinge support bracket with cracks and continued repetitive inspections of the replacement bracket.

The DCA of Malaysia is currently the country with State of Design responsibilities on the affected airplanes. Before the DCA, the Civil Aviation Safety Authority (CASA) of Australia had the State of Design responsibilities. During this time, the CASA issued CASA AD/X-TS/5, dated October 2003, revised April 2, 2004, to address the unsafe condition and require the above actions on Models XTS-150 and 150B airplanes registered for operation in Australia.

The Australian and Malaysian ADs were issued based on reports of cracks in the gusset weld area of the canard inboard flap hinge support brackets on several of the affected airplanes. Neither authority has been able to attribute the cracks to a specific cause. The probable causes are:

• Manufacturing defects: the part might have suffered from a burn-through during welding or the outperforming stress relieving process after welding;

• Design problems: poor distribution of stress concentration could create fatigue hotspots; and

• Operational problems: pilot exceeds Vfe (flap extension speed), inducing loads higher than the certificated limit load).

Also, no information exists regarding damage tolerance on these brackets to show the part can absorb any kind of crack without leading to immediate failure.

Based on the above, the CASA and DCA both issued ADs for their respective countries that require, before further flight, initial inspections and, before the first flight of each day, repetitive inspections.

The CTRM Aviation Sdn. Bhd. Model Eagle 150B airplane is the only affected airplane model type certificated for operation in the United States. There are currently 13 of these airplanes on the U.S. registry.

Based on all of this information from the State of Design, the FAA issued AD 2004-11-04, Amendment 39-13649 (69 FR 30189, May 27, 2004). AD 2004-11-04 currently requires that you do the following on CTRM Aviation (formerly Eagle Aircraft (Malaysia) Sdn. Bhd.) Sdn. Bhd. Model Eagle 150B airplanes:

• Inspect certain canard inboard flap hinge support brackets (initially before further flight and repetitively before the first flight of each day); and;

• Perform any necessary follow-up action.

The DCA recently notified FAA of the need to change AD 2004-11-04. The DCA issued CAM AD 001-01-2004 R1, dated December 23, 2005. This revision includes an optional modification as terminating action for the repetitive inspections required by CAM AD 001-01-2004.

This condition, if not corrected, could result in loss of retention of controls and, consequently, loss of airplane control.

Relevant Service Information

We have reviewed:

• Eagle Aircraft Mandatory Service Bulletin SB 1109, Revision Original, Effective Date August 29, 2003; and

• Eagle Aircraft Mandatory Service Bulletin SB 1120, Original, Effective Date June 3, 2005.

The service information describes procedures for:

• Inspecting the gusset weld area of the canard inboard flap hinge support brackets, part number (P/N) 5731D01-05 and P/N 5731D01-02, for cracks; and;

• Replacing any canard inboard flap hinge support brackets, P/N 5731D01-05 and P/N 5731D01-02, with new design inboard flap hinge brackets, P/N 5731D05-01 and P/N 5731D06-01.

Foreign Airworthiness Authority Information

The DCA classified these service bulletins as mandatory and issued Malaysian AD No. CAM AD 001-01-2004 R1, dated December 23, 2005, to ensure the continued airworthiness of these airplanes in Malaysia.

These CTRM Aviation Sdn. Bhd. Model Eagle 150B airplanes are manufactured in Malaysia and are type-certificated for operation in the United States under the provisions of section 21.29 of the Federal Aviation Regulations (14 CFR 21.29) and the applicable bilateral airworthiness agreement.

Under this bilateral airworthiness agreement, the DCA has kept us informed of the situation described above.

FAA's Determination and Requirements of the Proposed AD

We are proposing this AD because we have examined the DCA's findings, evaluated all information and determined the unsafe condition described previously is likely to exist or develop on other products of the same type design that are certificated for operation in the United States.

This proposed AD would supersede AD 2004-11-04 with a new AD that would initially retain the requirement that certain canard inboard flap hinge support brackets be inspected (initially before further flight and repetitively before the first flight of each day) and then require that you replace the parts with new design inboard flap hinge brackets as terminating action for the repetitive inspections or if cracks are found. This proposed AD would require you to use the service information described previously to perform these actions.

Costs of Compliance

We estimate that this proposed AD affects 13 airplanes in the U.S. registry.

We estimate the following costs to do each proposed inspection:

Labor cost | Parts cost | Total cost per airplane | Total cost on U.S. operators
1 work-hour × $80 = $80 | (*) | $80 | 13 × $80 = $1,040.
* Not applicable.

We estimate the following costs to do the replacements that would be required as a result of the proposed inspection or the proposed mandatory replacement:

Labor cost | Parts cost | Total cost per airplane | Total cost on U.S. operators
10 work-hours × $80 = $800 | $1,700 | $2,500 | 13 × $2,500 = $32,500.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2004-11-04, Amendment 39-13649 (69 FR 30189, May 27, 2004), and adding the following new airworthiness directive:

CTRM Aviation SDN. BHD. (Formerly Eagle Aircraft (Malaysia) SDN. BHD.): Docket No. FAA-2006-23786; Directorate Identifier 2006-CE-11-AD.

Comments Due Date

(a) The Federal Aviation Administration (FAA) must receive comments on this proposed airworthiness directive (AD) action by August 10, 2006.

Affected ADs

(b) This AD supersedes AD 2004-11-04; Amendment 39-13649.

Applicability

(c) This AD affects Model Eagle 150B airplanes, all serial numbers, that are certificated in any category.

Unsafe Condition

(d) This AD results from mandatory continuing airworthiness information (MCAI) issued by the airworthiness authority for Malaysia. The actions specified in this AD are intended to detect and correct cracks in the canard inboard flap hinge support brackets, which could result in loss of retention of controls and consequently, loss of airplane control.

Compliance

(e) To address this problem, you must do the following:

Actions | Compliance | Procedures
(1) Inspection gusset weld area of the canard inboard flap hinge support brackets, part number (P/N) 5731D01-05 and P/N 5731D01-02, for cracked, lifted, or missing paint in the area of the weld or suspected cracks | Initially inspect before the next flight after June 4, 2004 (the effective date of AD 2004-11-04). Repetitively inspect thereafter before the first flight of each day | Follow Eagle Aircraft Mandatory Service Bulletin SB 1109, Revision Original, Effective Date August 29, 2003.
(2) If cracked, lifted, or missing paint in the area of the weld or suspected cracks are found during any inspection required in paragraph (e)(1) of this AD, inspect the affected bracket more fully as specified in the service bulletin | Before further flight after any inspection required by paragraph (e)(1) where cracked, lifted, or missing paint in the area of the weld or suspected cracks are found | Follow Eagle Aircraft Mandatory Service Bulletin SB 1109, Revision Original, Effective Date August 29, 2003.
(3) Replace any canard inboard flap hinge support brackets, P/N 5731D01-05 and P/N 5731D01-02, with new design inboard flap hinge brackets, P/N 5731D05-01 and P/N 5731D06-01 | Before further flight after any inspection where cracks are found or within 6 months after the effective date of this AD, whichever occurs first. This action terminates the repetitive inspections required in paragraph (e)(1) of this AD | Follow Eagle Aircraft Mandatory Service Bulletin SB 1120, Original, Effective Date June 3, 2005.
(4) Do not install any canard inboard flap hinge support brackets, P/N 5731D01-05 and P/N 5731D01-02 | As of the effective date of this AD | Not Applicable.

(f) The Australian AD allows an appropriately trained pilot to perform the visual inspections of the canard inboard flap hinge support brackets. Although the Malaysian AD does not specifically state this, it does refer to the Australian AD. Regardless, the Federal Aviation Regulations (14 CFR 43.3) only allow the pilot to perform preventive maintenance as described in 14 CFR part 43, App. A, paragraph (c). These visual inspections are not considered preventive maintenance under 14 CFR part 43, App. A, paragraph (c). Therefore, an appropriately-rated mechanic must perform all actions of this AD.

Special Flight Permit

(g) Special flight permits are not allowed for this AD. Part 39 of the Federal Aviation Regulations (14 CFR part 39) provides that FAA may issue special flight permits for ADs, unless otherwise specified in the individual AD.s The FAA has determined that the safety issue is severe enough that failure of the canard inboard flap hinge support brackets must be prevented and cracks in this area must be detected before further operation.

Alternative Methods of Compliance (AMOCs)

(h) The Manager, Standards Office, Small Airplane Directorate, FAA, ATTN: Karl Schletzbaum, Aerospace Engineer, ACE-112, Small Airplane Directorate, 901 Locust, Room 301, Kansas City, Missouri 64106; telephone: 816-329-4146; facsimile: 816-329-4090, has the authority to approve AMOCs for this AD, if requested using the procedures found in 14 CFR 39.19.

(i) AMOCs approved for AD 2004-11-04 are approved for this AD.

Related Information

(j) Malaysian AD No. CAM AD 001-01-2004 R1, dated December 23, 2005, and Australian AD No. CASA AD/X-TS/5, dated August 21, 2003, revised April 2, 2004, also address the subject of this AD. To get copies of the documents referenced in this AD, contact CTRM Aviation Sdn. Bhd. (formerly known as Eagle Aircraft Sdn. Bhd.), Locked Bag 1028, Pejabat Pos Besar Melaka, 75150 Melaka, Malaysia; telephone: 06 317 1007; facsimile: 06 317 7023. To view the AD docket, go to the Docket Management Facility; U.S. Department of Transportation, 400 Seventh Street, SW., Nassif Building, Room PL-401, Washington, DC, or on the Internet at http://dms.dot.gov. The docket number is Docket No. FAA-2006-23786; Directorate Identifier 2006-CE-11-AD.

Issued in Kansas City, Missouri, on July 3, 2006.
David R. Showers,
Acting Manager, Small Airplane Directorate, Aircraft Certification Service.

[FR Doc. E6-10773 Filed 7-10-06; 8:45 am]

BILLING CODE 4910-13-P